DEPARTMENT OF DEFENSE

Office of Secretary

[DOD-2007-OS-0059]

Privacy Act of 1974; Systems of Records

AGENCY: Defense Finance and Accounting Service, Department of Defense.

ACTION: Notice to add a new system of records.

SUMMARY: The Defense Finance and Accounting Service (DFAS) is proposing to add a system of records notice to its inventory of record systems subject to the Privacy Act of 1974, (5 U.S.C. 552a), as amended.

DATES: This action will be effective without further notice on July 5, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on May 24, 2007, to the House Committee on Oversight and Government Reform, the Senate Committee on Governmental Affairs, and the Office of Management and Budget (OMB) pursuant to paragraph 4c of Appendix I to OMB Circular No. A-130, ‘Federal Agency Responsibilities for Maintaining Records About Individuals,’ dated December 12, 2000, 65 FR 239.

Dated: May 29, 2007.
C.R. Choate
Alternative Federal Register Liaison Officer, Department of Defense.

T7220

System name:

Deployable Disbursing System (DDS).

System location:

Defense Finance and Accounting Service—Indianapolis, 8899 East 56th, Indianapolis, IN 46249-7100.

Categories of individuals covered by the system:

Active duty United States Army and Marine Corps, and Reserve and Guard military members.

Categories of records in the system:

Individual's name, address, Social Security Numbers (SSN), Electronic Fund Transfer data (i.e. bank's name and address and bank's routine number), financial payment information, military branch of service, and military status.

Authority for maintenance of the system:

5 U.S.C. 301, Departmental Regulations; Department of Defense Financial Management Regulation (DoDFMR) 7000.14-R, Volume 5; 31 U.S.C. Sections 3511, and 3513; and E.O. 9397 (SSN).

Purpose(s):

The Deployable Disbursing System (DDS) will provide automated accounting and disbursing documentation to mobile and remote military operations within contingency locations requiring foreign currency operations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. Treasury Department to provide information on check issues and electronic funds transfers.

To Federal Reserve banks to distribute payments made through the direct deposit system to financial organizations or their processing agents authorized by individuals to receive and deposit payments in their accounts.

The ‘Blanket Routine Uses’ published at the beginning of the DoD compilation of systems of records notices apply to this system.

Policies and practices for storing, retrieving, accessing, retaining, and disposing of records in the system:

Storage:

Electronic storage media.

Retrievability:

Name and Social Security Number (SSN).

Safeguards:

Records are stored in office buildings protected by guards, controlled screening, use of visitor registers, and electronic access, and/or locks. Access to records is limited to individuals who are properly screened and cleared on a need-to-know basis in the performance of their official duties. Passwords and digital signatures are used to control access to the system data, and procedures are in place to deter and detect browsing and access. Physical and electronic access are limited to persons responsible for servicing and authorized to use the record system.

Retention and disposal:

Records are cut off at the end of fiscal year and destroyed 6 years and 3 months after cutoff. If any discrepancy in the transaction has been identified, the records are cut off after the discrepancy has been corrected and the final payment made. Records are disposed of by degaussing the electronic media, shredding or burning.

System manager(s) and address:

System Manager, Defense Finance and Accounting Service—Indianapolis, Deployable Disbursing System (DDS), 8899 East 56th Street, Indianapolis, IN 46249-7100.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Requests should contain individual's name, Social Security Number (SSN), current address, and telephone number.

Record access procedures:

Individuals seeking access to information about themselves contained in this system of records should address written inquiries to Defense Finance and Accounting Service, Freedom of Information/Privacy Act Program Manager, Corporate Communications and Legislative Liaison, 6760 E. Irvington Place, Denver, CO 80279-8000.

Requests should contain individual's name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From the individual and DoD Components.

Exemptions claimed for the system:

None.

[FR Doc. E7-10687 Filed 6-1-07; 8:45 am]

BILLING CODE 2006-05-P